DEPARTMENT OF AGRICULTURE

Forest Service

Information Collection; Locatable Minerals

AGENCY: Forest Service, Agriculture (USDA).

ACTION: Notice; request for comment.

SUMMARY: In accordance with the Paperwork Reduction Act of 1995, the Forest Service (Forest Service or Agency) is seeking comments from all interested individuals and entities on reapproval of a currently approved information collection request for locatable minerals.

DATES: Comments must be received in writing by November 20, 2023.

ADDRESSES: Comments concerning this notice should be addressed to the Lands, Minerals, and Geology Management Staff, USDA Forest Service, 1617 Cole Boulevard, Building 17, Lakewood, CO 80401-3305. All timely comments, including names and addresses, will be placed in the record and will be available for public inspection and copying. The public may inspect comments received at the location listed in ADDRESSES during normal business hours. Visitors are encouraged to call ahead to facilitate entry into the building.

FOR FURTHER INFORMATION CONTACT: Kevin Knesek, Acting Deputy Director, Lands, Minerals, and Geology Management, (208) 215-1522, kevin.s.knesek@usda.gov. Individuals who use telecommunication devices for deaf and hard of hearing (TDD) may call the Federal Relay Service at 800-877-8339 24 hours a day, every day of the year, including holidays.

SUPPLEMENTARY INFORMATION:

Title: Locatable Minerals.

OMB Number: 0596-0022.

Expiration Date of Approval: June 30, 2018.

Type of Request: Reapproval of an information collection request.

Abstract: This information collection request is necessary to ensure that potential adverse environmental impacts associated with locatable mineral operations on National Forest System (NFS) lands are minimized to the extent practicable. Forest Service regulations at 36 CFR 228.5 require mining operators, with some exceptions, to notify the authorized Forest Service officer of their intent to conduct a locatable mineral operation on NFS lands by filing a proposed plan of operations. All information identified in 36 CFR part 228 must be included in the proposed plan of operations. Forest Service form FS-2800-5, Plan of Operations for Mining Activities on National Forest System Lands, is available for use by mining proponents and operators to simplify this process. The information required by 36 CFR 228.4(c), (d), and (e) in a proposed plan of operations includes:

1. The name and legal mailing address of operators (and claimants if they are not the same) and their lessees, assigns, or designees.

2. A map or sketch showing information sufficient to locate:

a. The proposed area of operations on the ground.

b. Existing and/or proposed roads or access routes to be used in connection with the operation as set forth in 36 CFR 228.12 on access.

c. The approximate location and size of areas where surface resources will be disturbed.

3. Information sufficient to describe:

a. The type of operations proposed and how they would be conducted.

b. The type and standard of existing and proposed roads or access routes.

c. The means of transportation used or to be used as set forth in 36 CFR 228.12.

d. The period during which the proposed activity will take place.

e. Measures to be taken to meet the requirements for environmental protection in 36 CFR 228.8.

This information collection request is crucial to protecting surface resources, including plants, animals, and their habitat, and addressing public safety on NFS lands. The authorized Forest Service officer will use the collected information to ensure that prospecting for and exploration, development, and production of mineral resources are conducted in an environmentally sensitive manner; that these mineral operations are integrated into planning and management of other resources using principles of ecosystem management; and that lands disturbed by mineral operations are reclaimed using the best scientific knowledge and returned to other productive uses. If this information were not collected, the Forest Service would not be able to comply with its regulations, and locatable mineral operations could result in undue damage to surface resources in the NFS.

Estimated Annual Burden per Respondent: 224 hours.

Type of Respondents: Mining proponents and operators.

Estimated Annual Number of Respondents: 198.

Estimated Annual Number of Responses per Respondent: 1.

Estimated Total Annual Burden on Respondents: 44,352 hours.

Comment Is Invited

Comment is invited on (1) whether this information collection request is necessary for the stated purposes and the proper performance of the functions of the Agency, including whether the information collected will have practical or scientific utility; (2) the accuracy of the Agency's estimate of the burden of the information collection request, including the validity of the methodology and assumptions used; (3) ways to enhance the quality, utility, and clarity of the information to be collected; and (4) ways to minimize the burden of the information collection request on respondents, including the use of automated, electronic, mechanical, or other technological collection techniques or other forms of information technology.

All comments received in response to this notice, including names and addresses when provided, will be a matter of public record. Comments will be summarized and included in the request for Office of Management and Budget approval.

Dated: September 15, 2023.
Jacqueline Emanuel,
Associate Deputy Chief, National Forest System.

[FR Doc. 2023-20484 Filed 9-20-23; 8:45 am]

BILLING CODE 3411-15-P